DEPARTMENT OF LABOR

Occupational Safety and Health Administration

29 CFR Parts 1910, 1915, 1917, 1918 and 1926

[Docket No. OSHA-2008-0031]

RIN 1218-AC42

Clarification of Employer Duty To Provide Personal Protective Equipment and Train Each Employee

AGENCY: Occupational Safety and Health Administration (OSHA), U.S. Department of Labor.

ACTION: Final rule; correction.

SUMMARY: OSHA is correcting an error in the final rule published in the Federal Register on December 12, 2008, clarifying employers' duty to provide personal protective equipment and to train each employee.

DATES: Effective January 12, 2009.

FOR FURTHER INFORMATION CONTACT: Contact Ms. Jennifer Ashley, Director, Office of Communications, OSHA, U.S. Department of Labor, Room N-3647, 200 Constitution Avenue, NW., Washington, DC 20210; telephone (202) 693-1999 or fax (202) 693-1634.

SUPPLEMENTARY INFORMATION: On December 12, 2008 (73 FR 75568), OSHA issued a final rule entitled “Clarification of Employer Duty To Provide Personal Protective Equipment and Train Each Employee.” Subsequently, an error was discovered in the amendatory language of that Federal Register notice. This notice is being published to correct that language.

Correction of Publication

In FR Doc. E8-29122 appearing on page 75568 in the Federal Register of Friday, December 12, 2008, the following correction is made:

§ 1926.1101 [Corrected]

On page 75589, in the first column, Subpart Z, item 44, the instruction “In section 1926.1101, paragraphs (h)(1) introductory text, (h)(2), and (k)(9)(i) are revised to read as follows:” is corrected to read “In section 1926.1101, paragraphs (h)(1) introductory text, (h)(2)(i), and (k)(9)(i) are revised to read as follows”:

Signed at Washington, DC, this 6th day of January 2009.
Thomas M. Stohler,
Acting Assistant Secretary of Labor for Occupational Safety and Health.

[FR Doc. E9-311 Filed 1-8-09; 8:45 am]

BILLING CODE 4510-26-P